FEDERAL ELECTION COMMISSION

11 CFR Part 100, 104, and 114

[Notice 2007-19]

Electioneering Communications

AGENCY: Federal Election Commission.

ACTION: Notice of public hearing.

SUMMARY: The Federal Election Commission is announcing a public hearing on the proposed changes to its rules governing “electioneering communications” under the Federal Election Campaign Act of 1971, as amended.

DATES: The hearing will be held on Wednesday, October 17 and Thursday, October 18, 2007, and will begin at 10 a.m. each day.

ADDRESSES: Commission hearings are held in the Commission's ninth floor meeting room, 999 E Street, NW., Washington, DC.

FOR FURTHER INFORMATION CONTACT: Mr. Ron Katwan, Assistant General Counsel, 999 E Street, NW., Washington, DC 20463, (202) 694-1650 or (800) 424-9530.

SUPPLEMENTARY INFORMATION: On August 31, 2007 (72 FR 50261), the Commission published a Notice of Proposed Rulemaking (“NPRM”) proposing revisions to its rules governing “electioneering communications” under the Federal Election Campaign Act of 1971, as amended. In the NPRM, the Commission stated it would hold a hearing on the proposed rules on October 17, 2007. The Commission has determined that an additional day of public hearing will be necessary to accommodate all those who wish to appear. Accordingly, the hearing will be held on Wednesday, October 17 and Thursday, October 18, 2007.

Dated: October 5, 2007.
Robert D. Lenhard,
Chairman, Federal Election Commission.

[FR Doc. E7-20107 Filed 10-11-07; 8:45 am]

BILLING CODE 6715-01-P